DEPARTMENT OF HOMELAND SECURITY

Coast Guard

[USCG-2015-0005; OMB Control Numbers 1625—(0032, 0043, 0044, 0081, 0113)]

Information Collection Request to Office of Management and Budget

AGENCY: Coast Guard, DHS.

ACTION: Sixty-day notice requesting comments.

SUMMARY: In compliance with the Paperwork Reduction Act of 1995, the U.S. Coast Guard intends to submit an Information Collection Request (ICRs) to the Office of Management and Budget (OMB), Office of Information and Regulatory Affairs (OIRA), requesting approval of a revision to the following collections of information: 1625-0032, Vessel Inspection Related Forms and Reporting Requirements under Title 46 U.S. Code; 1625-0043, Ports and Waterways Safety—Title 33 CFR subchapter P; 1625-0044, Outer Continental Shelf Activities—Title 33 CFR subchapter N; 1625-0081, Alternate Compliance Program; and 1625-0113, Crewmember Identification Documents. Our ICRs describes the information we seek to collect from the public. Before submitting these ICRs to OIRA, the Coast Guard is inviting comments as described below.

DATES: Comments must reach the Coast Guard on or before April 20, 2015.

ADDRESSES: You may submit comments identified by Coast Guard docket number [USCG-2015-0005] to the Docket Management Facility (DMF) at the U.S. Department of Transportation (DOT). To avoid duplicate submissions, please use only one of the following means:

(1) Online: http://www.regulations.gov.

(2) Mail: DMF (M-30), DOT, West Building Ground Floor, Room W12-140, 1200 New Jersey Avenue SE., Washington, DC 20590-0001.

(3) Hand delivery: Same as mail address above, between 9 a.m. and 5 p.m., Monday through Friday, except Federal holidays. The telephone number is 202-366-9329.

(4) Fax: 202-493-2251. To ensure your comments are received in a timely manner, mark the fax, to attention Desk Officer for the Coast Guard.

The DMF maintains the public docket for this Notice. Comments and material received from the public, as well as documents mentioned in this Notice as being available in the docket, will become part of the docket and will be available for inspection or copying at room W12-140 on the West Building Ground Floor, 1200 New Jersey Avenue SE., Washington, DC, between 9 a.m. and 5 p.m., Monday through Friday, except Federal holidays. You may also find the docket on the Internet at http://www.regulations.gov.

Copies of the ICRs are available through the docket on the Internet at http://www.regulations.gov. Additionally, copies are available from: COMMANDANT (CG-612), ATTN: PAPERWORK REDUCTION ACT MANAGER, US COAST GUARD, 2703 MARTIN LUTHER KING JR AVE SE STOP 7710, WASHINGTON DC 20593-7710.

FOR FURTHER INFORMATION CONTACT: Mr. Anthony Smith, Office of Information Management, telephone 202-475-3532, or fax 202-372-8405, for questions on these documents. Contact Ms. Cheryl Collins, Program Manager, Docket Operations, 202-366-9826, for questions on the docket.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether these ICRs should be granted based on the Collections being necessary for the proper performance of Departmental functions. In particular, the Coast Guard would appreciate comments addressing: (1) The practical utility of the Collections; (2) the accuracy of the estimated burden of the Collections; (3) ways to enhance the quality, utility, and clarity of information subject to the Collections; and (4) ways to minimize the burden of the Collections on respondents, including the use of automated collection techniques or other forms of information technology. In response to your comments, we may revise these ICRs or decide not to seek approval of revisions of the Collections. We will consider all comments and material received during the comment period.

We encourage you to respond to this request by submitting comments and related materials. Comments must contain the OMB Control Number of the ICR and the docket number of this request, [USCG-2015-0005], and must be received by April 20, 2015. We will post all comments received, without change, to http://www.regulations.gov. They will include any personal information you provide. We have an agreement with DOT to use their DMF. Please see the “Privacy Act” paragraph below.

Submitting Comments

If you submit a comment, please include the docket number [USCG-2015-0005], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission.

You may submit your comments and material by electronic means, mail, fax, or delivery to the DMF at the address under ADDRESSES; but please submit them by only one means. To submit your comment online, go to http://www.regulations.gov, and type “USCG-2015-0005” in the “Search” box. If you submit your comments by mail or hand delivery, submit them in an unbound format, no larger than 8½ by 11 inches, suitable for copying and electronic filing. If you submit comments by mail and would like to know that they reached the Facility, please enclose a stamped, self-addressed postcard or envelope. We will consider all comments and material received during the comment period and will address them accordingly.

Viewing comments and documents: To view comments, as well as documents mentioned in this Notice as being available in the docket, go to http://www.regulations.gov, click on the “read comments” box, which will then become highlighted in blue. In the “Search” box insert “USCG-2015-0005” and click “Search.” Click the “Open Docket Folder” in the “Actions” column. You may also visit the DMF in Room W12-140 on the ground floor of the DOT West Building, 1200 New Jersey Avenue SE., Washington, DC 20590, between 9 a.m. and 5 p.m., Monday through Friday, except Federal holidays.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Information Collection Requests

1. Title: Vessel Inspection Related Forms and Reporting Requirements Under Title 46 U.S.C.

OMB Control Number: 1625-0032.

Summary: This collection of information requires owners, operators, agents or masters of certain inspected vessels to obtain and/or post various forms as part of the Coast Guard's Commercial Vessel Safety Program.

Need: The Coast Guard's Commercial Vessel Safety Program regulations are found in 46 CFR, including parts 2, 26, 31, 71, 91, 107, 115, 126, 169, 176 and 189 as authorized in Title 46 U.S.C. A number of reporting and recordkeeping requirements are contained therein.

Forms: CG-841, CG-854, CG-948, CG-949, CG-950, CG-950A, CG-2832.

Respondents: Owners, operators, agents and master of vessels.

Frequency: On occasion.

Burden Estimate: The estimated burden has increased from 1,601 hours to 1,642 hours a year due to an increase in the estimated annual number of respondents.

2. Title: Ports and Waterways Safety—Title 33 CFR subchapter P.

OMB Control Number: 1625-0043.

Summary: This collection of information allows the master, owner, or agent of a vessel affected by these rules to request a deviation from the requirements governing navigation safety equipment to the extent that there is no reduction in safety.

Need: Provisions in 33 CFR chapter I, subchapter P, allow any person directly affected by the rules in that subchapter to request a deviation from any of the requirements as long as it does not compromise safety. This collection enables the Coast Guard to evaluate the information the respondent supplies, to determine whether it justifies the request for a deviation.

Forms: NONE.

Respondents: Master, owner, or agent of a vessel.

Frequency: On occasion.

Burden Estimate: The estimated burden has decreased from 2,447 hours to 2,110 hours a year due to a decrease in the estimated annual number of responses.

3. Title: Outer Continental Shelf Activities—Title 33 CFR subchapter N.

OMB Control Number: 1625-0044.

Summary: The Outer Continental Shelf Lands Act, as amended, authorizes the Coast Guard to promulgate and enforce regulations promoting the safety of life and property on OCS facilities. These regulations are located in 33 CFR chapter I, subchapter N.

Need: The information is needed to ensure compliance with the safety regulations related to OCS activities. The regulations contain reporting and recordkeeping requirements for annual inspections of fixed OCS facilities, employee citizenship records, station bills, and emergency evacuation plans.

Forms: CG-5432.

Respondents: Operators of facilities and vessels engaged in activities on the OCS.

Burden Estimate: The estimated burden has increased from 6,304 hours to 8,407 hours a year due to an increase in the estimated annual number of responses.

4. Title: Alternate Compliance Program.

OMB Control Number: 1625-0081.

Summary: This information is used by the Coast Guard to assess vessels participating in the voluntary Alternate Compliance Program (ACP) before issuance of a Certificate of Inspection.

Need: Sections 3306 and 3316 of 46 U.S.C. authorize the Coast Guard to establish vessel inspection regulations and inspection alternatives. Part 8 of 46 CFR contains the Coast Guard regulations for recognizing classification societies and enrollment of U.S.-flag vessels in ACP.

Forms: NONE.

Respondents: Owners and operators of U.S.-flag inspected vessels.

Frequency: On occasion.

Burden Estimate: The estimated burden has decreased from 176 hours to 152 hours a year due to a decrease in the estimated annual number of respondents.

5. Title: Crewmember Identification Documents.

OMB Control Number: 1625-0113.

Summary: This information collection covers the requirement that crewmembers on vessels calling at U.S. ports must carry and present on demand an identification that allows the identity of crewmembers to be authoritatively validated.

Need: Title 46 U.S.C. 70111 mandated that the Coast Guard establish regulation about crewmember identification. The regulations are in 33 CFR part 160 subpart D.

Forms: NONE.

Respondents: Crewmembers and operators of certain vessels.

Frequency: On occasion.

Burden Estimate: The estimated burden has increased from 30,275 hours to 34,293 hours a year due to an increase in the estimated time to acquire an acceptable identification document.

Authority: The Paperwork Reduction Act of 1995; 44 U.S.C. Chapter 35, as amended.

Dated: February 6, 2015.
Thomas P. Michelli,
U.S. Coast Guard, Chief Information Officer, Acting.

[FR Doc. 2015-03192 Filed 2-13-15; 8:45 am]

BILLING CODE 9110-04-P